DEPARTMENT OF ENERGY

Federal Energy Regulatory Commission

[Docket No. CP18-50-000]

Notice of Request Under Blanket Authorization; Texas Eastern Transmission, LP

Take notice that on January 19, 2018, Texas Eastern Transmission, LP (Texas Eastern), P.O. Box 1642, Houston, Texas 77251, filed a prior notice request pursuant to sections 157.205 and 157.208 of the Commission's regulations under the Natural Gas Act (NGA), as amended, and the blanket certificate issued by the Commission in Docket No. CP82-535-000 requesting authorization to relocate certain segments of two adjacent pipelines in Montgomery County, Pennsylvania as part of its Skippack Pike Relocation Project. The Skippack Pike Relocation Project will accommodate a planned expansion of Pennsylvania State Route 202 in Montgomery County by the Pennsylvania Department of Transportation. Specifically, Texas Eastern proposes to relocate certain segments of its Line 1-B and Line 1-F pipelines, and to cut, cap and fill with grout certain portions of these pipelines. The total cost of the Skippack Pike Relocation Project is estimated to be approximately $12,600,000, all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Leanne Sidorkewicz, Manager, Rates and Certificates, Texas Eastern Transmission, LP, P.O. Box 1642, Houston, Texas 77251-1642, by telephone at (713) 627-4515, by fax at (713) 627-5947, or by email at leanne.sidorkewicz@enbridge.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE, Washington, DC 20426.

Dated: January 26, 2018.
Kimberly D. Bose,
Secretary.

[FR Doc. 2018-02142 Filed 2-1-18; 8:45 am]

BILLING CODE 6717-01-P